DEPARTMENT OF HOUSING AND URBAN DEVELOPMENT

[Docket No. FR-5603-N-47]

Notice of Proposed Information Collection for Public Comment: Housing Choice Voucher Program Administrative Fee Study Data Collection for Full National Study

AGENCY: Office of the Chief Information Officer, HUD.

ACTION: Notice.

SUMMARY: The proposed information collection requirement described below will be submitted to the Office of Management and Budget (OMB) for review, as required by the Paperwork Reduction Act. The Department is soliciting public comments on the subject proposal.

This request is for the clearance of on-site and telephone data collection from public housing agencies (PHAs) in support of the Housing Choice Voucher (HCV) Program Administrative Fee Study. The purpose of the study is to collect accurate information on the costs of administering the HCV program across a national sample of high-performing and efficient PHAs, and to use this information to develop a new administrative fee allocation formula for the HCV program. This request for clearance is the fourth OMB request in support of this study and is for data collection for the full national study. The prior OMB requests have covered the reconnaissance or research design phase of the study, pretesting the full national study design, and conducting additional reconnaissance visits to increase the study sample. For the current OMB request, the research team proposes three main types of data collection: (1) Measuring the time that HCV staff spend working on the various activities required to administer the program over a two-month period; (2) collecting information via interviews and document review on overhead costs, other costs related to HCV program administration that cannot be captured by measuring staff time, and “transaction counts” (the number of times an HCV program activity is completed over a specified period of time) in order to translate the staff time spent on that activity into a time per activity or cost per activity; and (3) a telephone survey of 130 small HCV programs (fewer than 250 vouchers) to understand how smaller agencies administer the HCV program effectively without the benefit of economies of scale that apply to larger programs. The results of the data collection will be used to generate estimates of total cost per activity per PHA and to build a multivariate regression model that tests how much the variation across PHAs in administrative costs can be explained by PHA, participant, and market characteristics. The results of the model will be used to inform the development of an administrative fee formula that is based on the average cost per activity and takes into account the most important factors that cause some HCV programs to be more costly to administer than others.

DATES: Comments Due Date: August 6, 2012.

ADDRESSES: Interested persons are invited to submit comments regarding this proposal. Comments should refer to the proposal by name and/or OMB Control Number and should be sent to: Reports Liaison Officer, Department of Housing and Urban Development, 451 7th Street SW., Washington, DC 20410, Room 9120 or the number for the Federal Information Relay Service (1-800-877-8339).

FOR FURTHER INFORMATION CONTACT: Colette Pollard, Reports Management Officer, QDAM, Department of Housing and Urban Development, 451 Seventh Street SW., Washington, DC 20410; email Colette Pollard at Colette. Pollard@hud.gov or telephone (202) 402-3400. This is not a toll-free number. Copies of available documents submitted to OMB may be obtained from Ms. Pollard.

SUPPLEMENTARY INFORMATION: The Department is submitting the proposed information collection to OMB for review, as required by the Paperwork Reduction Act of 1995 (44 U.S.C. chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Housing Choice Voucher Program Administrative Fee Study Data Collection for Full National Study.

OMB Control Number, if applicable: 2528-Pending.

Description of the need for the information and proposed use:

This request is for the clearance of on-site and telephone data collection from public housing agencies (PHAs) in support of the Housing Choice Voucher (HCV) Program Administrative Fee Study. The purpose of the study is to collect accurate information on the costs of administering the HCV program across a national sample of high-performing and efficient PHAs, and to use this information to develop a new administrative fee allocation formula for the HCV program. This request for clearance is the fourth OMB request in support of this study and is for data collection for the full national study. The prior OMB requests have covered the reconnaissance or research design phase of the study, pretesting the full national study design, and conducting additional reconnaissance visits to increase the study sample. For the current OMB request, the research team proposes three main types of data collection: (1) Measuring the time that HCV staff spend working on the various activities required to administer the program over a two-month period; (2) collecting information via interviews and document review on overhead costs, other costs related to HCV program administration that cannot be captured by measuring staff time, and “transaction counts” (the number of times an HCV program activity is completed over a specified period of time) in order to translate the staff time spent on that activity into a time per activity or cost per activity; and (3) a telephone survey of 130 small HCV programs (fewer than 250 vouchers) to understand how smaller agencies administer the HCV program effectively without the benefit of economies of scale that apply to larger programs. The results of the data collection will be used to generate estimates of total cost per activity per PHA and to build a multivariate regression model that tests how much the variation across PHAs in administrative costs can be explained by PHA, participant, and market characteristics. The results of the model will be used to inform the development of an administrative fee formula that is based on the average cost per activity and takes into account the most important factors that cause some HCV programs to be more costly to administer than others.

Agency form numbers, if applicable: None.

Estimation of the total numbers of hours needed to prepare the information collection including number of respondents, frequency of response, and hours of response: The research team plans to collect time measurement and cost data at up to 60 PHAs across the country and to survey an additional 130 PHAs with small HCV programs. There are 5 data collection activities that involve PHA staff. First, 1 staff at each of the 60 PHAs will spend up to 9 hours over the data collection period working with the research team to prepare for and monitor the time measurement data collection (1 staff × 9 hours × 60 sites = 540 hours). Second, an average of 2 staff at each of the 60 PHAs will spend up to 2.5 days each (20 hours) preparing for and being interviewed in person or by telephone by the study team about program overhead costs, transaction counts, and recent changes in voucher program operations (2 staff × 20 hours × 60 sites = 2,400 hours). Third, an average of 20 HCV program staff per site will participate in the time measurement data collection. This will entail receiving 2 hours of training (20 staff × 2 hours ×60 sites = 2,400 hours) and responding to notifications via a smart phone provided by the study team on their work activities over a two-month period (40 working days). Responding to the notifications will take approximately 15 minutes per day per staff, for a total of 10 hours per staff over the 40 working days (20 staff × 10 hours × 60 sites = 12,000 hours). Fourth, up to 2 PHA staff at each of the 60 days will spend up to 8 hours each preparing transaction counts data at the end of the time measurement period (2 staff × 8 hours × 60 sites = 960 hours). Finally, up to 2 PHA staff at 130 PHAs will participate in the small program telephone survey. These staff will spend up to 2 hours preparing for the telephone survey, including assembling financial statements and other documentation, and up to 2 hours completing the survey (2 staff × 4 hours × 130 PHAs = 1,040 hours). The total estimated burden across all proposed data collection activities is 19,340 hours.

Status of the proposed information collection: This is a new collection.

Authority: The Paperwork Reduction Act of 1995, 44 U.S.C. chapter 35, as amended.

Dated: June 29, 2012.
Colette Pollard,
Departmental Reports Management Officer, Office of the Chief Information Officer.

[FR Doc. 2012-16457 Filed 7-3-12; 8:45 am]

BILLING CODE 4210-67-P